DEPARTMENT OF VETERANS AFFAIRS

VA Prevention of Fraud, Waste, and Abuse Advisory Committee, Amended Notice of Meeting

The Department of Veterans Affairs (VA) gives notice under the Federal Advisory Committee Act that the VA Prevention of Fraud, Waste, and Abuse Advisory Committee will meet January 18, 2018 at 301 7th St. SW, Conferenece Room 2720, Washington, DC 20024, from 8:00 a.m. until 5:00 p.m. (EST). All sessions are open to the public.

The purpose of the Committee is to advise the Secretary, through the Assistant Secretary for Management and Chief Financial Officers, on matters relating to improving and enhancing VA's efforts to identify, prevent, and mitigate fraud, waste, and abuse across VA in order to improve the integrity of VA's payments and the efficiency of its programs and activities.

The agenda will include detailed discussions of VA's community care programs, legislative changes proposed for community care, operational changes proposed for community care, OIG findings in the community care, and a working group report.

The meeting will include time reserved for public comments in the afternoon. A sign-up sheet for 5-minute comments will be available at the meeting. Individuals who wish to address the Committee may submit a 1-2 page summary of their comments for inclusion in the official meeting record. Members of the public may also submit written statements for the Committee's review to Tamika Barrier via email at Tamika.Barrier@va.gov.

Because the meeting will take place in a Federal building, visitors will be required to present photo identification. Any person attending should allow an additional 30 minutes before the beginning to allow for this security process. For interested parties who cannot attend in person, there is a toll-free telephone number (800) 767-1750; access code 03905#.

Note: The telephone line will be muted until the Committee Chairman opens the floor for public comment. Any member of the public seeking additional information should contact Tamika Barrier, Designated Federal Officer, at (757) 254-8630.

Dated: December 28, 2017.
Jelessa M. Burney,
Federal Advisory Committee Management Officer.

[FR Doc. 2017-28377 Filed 1-2-18; 8:45 am]

BILLING CODE P